DEPARTMENT OF AGRICULTURE

Forest Service

Federal Advisory Committee Meeting To Be Held Authorized Under the Secure Rural Schools Act and Community Self-Determination Act, Public Law 110-343

AGENCY: Forest Service, USDA

ACTION: Announcement of meeting.

SUMMARY: On February 28, 2011, the U.S. Forest Service will host a meeting of the federally designated Secure Rural Schools Resource Advisory Committee (RAC). The public is invited to attend the meeting and provide input. A Secure Rural Schools RAC provides advice and recommendations to the Forest Service on the development and implementation of special projects as authorized under the Secure Rural Schools and Community Self-Determination Act, Public Law 110-343.

DATES: The meeting will be held on February 28, 2011 from 12-4.

ADDRESSES: The meeting location is U.S. Forest Service, Osceola Ranger District, 24874 U.S. Highway 90, Olustee, Florida 32072.

FOR FURTHER INFORMATION CONTACT: Denise Rains, Public Services Staff Officer, 850-523-8568, e-mail drains@fs.fed.us.

SUPPLEMENTARY INFORMATION: Florida's RAC consists of 15 people selected to serve on the committee by Secretary of Agriculture Tom Vilsack. Members are from throughout the state and represent varied interests and areas of expertise. They will work collaboratively to improve working relationships among community members and national forest personnel.

Five Florida counties, Liberty, Wakulla, Columbia, Baker and Marion, elected to set aside a percentage of their Secure Rural Schools payment. Counties receive a payment annually for having National Forest lands within their boundaries. The RAC will ultimately review and recommend projects to be funded from this money.

Projects approved must benefit National Forests lands and can maintain infrastructure, improve the health of watersheds and ecosystems, protect communities, and strengthen local economies.

Dated: February 2, 2011.
Susan Jeheber-Matthews,
Forest Supervisor.

[FR Doc. 2011-2690 Filed 2-7-11; 8:45 am]

BILLING CODE 3410-11-P